DEPARTMENT OF TRANSPORTATION

Federal Aviation Administration

14 CFR Part 71

Docket No. FAA-2012-0622; Airspace Docket No. 12-ANE-11

RIN 2120-AA66

Amendment of Jet Routes and VOR Federal Airways; Northeastern United States

AGENCY: Federal Aviation Administration (FAA), DOT.

ACTION: Final rule; technical amendment.

SUMMARY: This action amends the descriptions of 14 Jet Routes and 9 VOR Federal airways in the northeastern United States to reflect route changes made in Canadian airspace as part of Canada's Windsor-Toronto-Montreal airway project.

DATES: Effective date: 0901 UTC, September 20, 2012. The Director of the Federal Register approves this incorporation by reference action under 1 CFR part 51, subject to the annual revision of FAA Order 7400.9 and publication of conforming amendments.

FOR FURTHER INFORMATION CONTACT: Paul Gallant, Airspace, Regulations and ATC Procedures Group, Office of Airspace Services, Federal Aviation Administration, 800 Independence Avenue SW., Washington, DC 20591; telephone: (202) 267-8783.

SUPPLEMENTARY INFORMATION:

Background

NAV CANADA, which operates Canada's civil air navigation service, is implementing various changes to Canada's instrument flight rules (IFR) navigation infrastructure to enhance the efficiency of operations by taking advantage of both performance based navigation and modern avionics capabilities. The changes implemented by NAV CANADA affect parts of the descriptions of certain U.S. Jet Routes and VOR Federal airways that extend into Canadian airspace. As a result, editorial changes are required to these descriptions so that they match the changes made on the Canadian side of the border.

The Rule

This action amends Title 14 Code of Federal Regulations (14 CFR) part 71 by updating the legal descriptions of U.S. Jet Routes J-46, J-94, J-95, J-488, J-500, J-531, J-546, J-553, J-560, J-566, J-586, J-588, J-594, and J-595; and VOR Federal airways V-31, V-91, V-98, V-104, V-145, V-282, V-346, V-423 and V-522, that include segments extending into Canadian airspace. These amendments are being made so the route legal descriptions in FAA Order 7400.9, Airspace Designations and Reporting Points, match changes made by NAV CANADA to the route segments that lie within Canadian airspace and/or to reflect navigation aid name changes and editorial corrections. The specific changes are described below.

In the description of J-560, the word “Quebec” is inserted before “PQ, Canada” to correct an unintended omission. The J-16 and J-94 route descriptions previously indicated that they stopped at the U.S./Canadian border but actually they continue through London, ON to Buffalo, NY and beyond. J-566 extends to the Montreal VOR/DME instead of terminating at the border. J-95 terminates at a fix on the border instead of the Toronto VOR/DME as stated in the current description. This action reflects a large portion of J-500 within Canada that has been eliminated. The Mans, ON, VOR/DME is added in the description of J-531 to match the routing within Canada. The descriptions of J-448, J-546, J-553, J-588, J-594 and J-595 are amended to indicate their termination at the first fix within Canadian airspace. J-586's description is amended to indicate its present routing within Canadian airspace.

A one-degree change is required to the Toronto VOR/DME radial stated in the V-31 and V-522 descriptions. V-91 and V-282 no longer extend to St. Eustache, Canada, but terminate at fixes about 2.5 miles north of, and on, the United States/Canadian border, respectively. The Sterling VOR/DME has been renamed Campbellford in the description of V-98, and the St. Georges VOR/DME has been renamed Beauce in V-346. The descriptions of V-104, and V-145 have been amended to terminate at the first fix within Canadian airspace instead of extending to the Ottawa VOR/DME as currently listed. The description of V-423 is adjusted to reflect the routing within Canada to the HUXLY intersection instead of terminating on the border as currently described.

This is an administrative change to the legal descriptions of the above listed Jet Routes and VOR Federal airways to incorporate route segment changes made by NAV CANADA within Canadian airspace, and to include navigation aid name changes and editorial corrections. Therefore, notice and public procedures under 5 U.S.C. 553(b) are unnecessary.

The FAA has determined that this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule, when promulgated, will not have a significant economic impact on a substantial number of small entities under the criteria of the Regulatory Flexibility Act.

Jet Routes are published in paragraph 2004; and Domestic VOR Federal airways are published in paragraph 6010(a), of FAA Order 7400.9V, dated August 9, 2011, and effective September 15, 2011, which is incorporated by reference in 14 CFR 71.1. The Jet Routes and Domestic Federal VOR airways listed in this document will be published subsequently in the Order.

Environmental Review

The FAA has determined that this action qualifies for categorical exclusion under the National Environmental Policy Act in accordance with FAA Order 1050.1E, Environmental Impacts: Policies and Procedures, paragraph 311a. This airspace action is an editorial change that is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9V, Airspace Designations and Reporting Points, dated August 9, 2011, and effective September 15, 2011, is amended as follows:

Paragraph 2004 Jet routes.

J-16 [Amended]

From Battle Ground, WA, via Pendleton, OR; Whitehall, MT; Billings, MT; Dupree, SD; Sioux Falls, SD; Mason City, IA; Badger, WI; Peck, MI; London, ON, Canada; Buffalo, NY; Albany, NY; to Boston, MA; excluding the airspace within Canada.

J-94 [Amended]

From Oakland, CA, via Manteca, CA; INT Manteca 047° and Mustang, NV 208° radials; to Mustang, NV; Lovelock, NV; Battle Mountain, NV; Lucin, UT; Rock Springs, WY; Scottsbluff, NE; O'Neill, NE; Fort Dodge, IA; Dubuque, IA; Northbrook, IL; Pullman, MI; Flint, MI; Peck, MI; London, ON, Canada; Buffalo, NY; Albany, NY; to Boston, MA; excluding the airspace within Canada.

J-95 [Amended]

From Deer Park, NY; INT Deer Park 308° and Binghamton, NY, 119° radials; Binghamton; Buffalo, NY; INT Buffalo 316° and Dunkirk, NY 012° radials; excluding the airspace within Canada.

J-488 [Amended]

From Watertown, NY; INT Watertown 018° and Massena, NY 300° radials; excluding the airspace within Canada.

J-500 [Amended]

From Thunder Bay, ON, via Sault Ste Marie, MI; to North Bay, ON, Canada. From Sherbrooke, PQ, Canada; Millinocket, ME; to Frederickton, NB; excluding the airspace within Canada.

J-531 [Amended]

From Buffalo, NY, via Toronto, ON, Canada; Mans, ON, Canada; Wiarton, ON, Canada; to Sault Ste Marie, MI, excluding the airspace within Canada.

J-546 [Amended]

From Peck, MI; to INT Peck 068° and Simcoe, ON, Canada 250° radials; excluding the airspace within Canada.

J-553 [Amended]

From Peck, MI, to INT Peck 057° and Mans, ON, Canada 328° radials; excluding the airspace within Canada.

J-560 [Amended]

From Plattsburgh, NY, to Quebec, PQ, Canada, excluding the airspace within Canada.

J-566 [Amended]

From Massena, NY, to Montreal, Canada; excluding the airspace within Canada.

J-586 [Amended]

From Carleton, MI, via London, ON, Canada; to Toronto, ON, Canada. From INT Ottawa, ON, Canada 185° and Massena, NY 257° radials; Massena; to INT Massena 071° and Mirabel, QC, Canada 172° radials; excluding the airspace within Canada.

J-588 [Amended]

From Sault Ste Marie, MI; to INT Sault Ste Marie 112° and Campbellford, ON, Canada 296° radials; excluding the airspace within Canada.

J-594 [Amended]

From Massena, NY; to INT Massena 252° and Watertown, NY 028° radials; excluding the airspace within Canada.

J-595 [Amended]

From INT London, ON, Canada 064° and Watertown, NY 269° radials; Watertown; Plattsburgh, NY; Bangor, ME; to St John, NB, Canada; excluding the airspace within Canada.

* * * * *

Paragraph 6010(a) Domestic VOR Federal airways.

* * * * *

V-31 [Amended]

From Patuxent River, MD; INT Patuxent River 338° and Nottingham, MD, 128° radials; Nottingham. From Baltimore, MD; INT Baltimore 004° and Harrisburg, PA, 147° radials; Harrisburg; Selinsgrove, PA; Williamsport, PA; Elmira, NY; INT Elmira 002° and Rochester, NY, 120° radials; Rochester; INT Rochester 279° and Toronto, Canada, 150° radials; Toronto; excluding the airspace within Canada.

V-91 [Amended]

From INT Calverton, NY, 180° and Hampton, NY, 223° radials; Calverton; Bridgeport, CT; Albany, NY; Glens Falls, NY; INT Glens Falls 032° and Burlington, VT, 187° radials; Burlington; Plattsburgh, NY; INT Plattsburgh 348° and St. Jean, PQ, Canada 226° radials; excluding the airspace within Canada.

V-98 [Amended]

From Dayton, OH; INT Dayton 358° and Carleton, MI, 243° radials; to INT Carleton 243° and Waterville, OH, 321° radials. From Windsor, ON, Canada; London, ON, Canada; Toronto, ON, Canada; Campbellford, ON, Canada; Massena, NY; St. Jean, PQ, Canada; excluding the airspace within Canada.

V-104 [Amended]

From INT Ottawa. ON, Canada 127° and Massena, NY, 300° radials; Massena; Plattsburgh, NY; Burlington, VT; Montpelier, VT; Berlin, NH; to Bangor, ME; excluding the airspace within Canada.

V-145 [Amended]

From Utica, NY, INT Utica 303° and Watertown, NY, 171° radials; Watertown; to INT Watertown 005° and Ottawa, ON, Canada 185° radials; excluding the airspace within Canada.

V-282 [Amended]

From Saranac Lake, NY; to INT Saranac Lake 008° and Massena, NY 080° radials; excluding the airspace within Canada.

V-346 [Amended]

From Beauce, PQ, Canada, to Millinocket, ME, excluding the airspace within Canada.

V-423 [Amended]

From Williamsport, PA, Binghamton, NY; Ithaca, NY; Syracuse, NY; Watertown, NY; to INT Watertown 018° radial and Massena, NY 270° radials; excluding the airspace within Canada.

V-522 [Amended]

From Dryer, OH; INT Dryer 049° and Erie, PA, 258° radials; Erie; Dunkirk, NY; INT Dunkirk 356° and Toronto, ON, Canada, 150° radials; to Toronto; excluding the airspace within Canada.

* * * * *

Issued in Washington, DC, on July 11, 2012.
Gary A. Norek,
Manager, Airspace, Regulations and ATC Procedures Group.

[FR Doc. 2012-17406 Filed 7-18-12; 8:45 am]

BILLING CODE 4910-13-P